DEPARTMENT OF AGRICULTURE

Rural Business-Cooperative Service

[Docket #: RBS-23-BUSINESS-0024]

Notice for the Rural Innovation Stronger Economy (RISE) Grant Program for Fiscal Year 2024

AGENCY: Rural Business-Cooperative Service, USDA.

ACTION: Notice.

SUMMARY: The Rural Business-Cooperative Service (RBCS, Agency), a Rural Development (RD) agency of the United States Department of Agriculture (USDA), published in the Federal Register, a Notice of Solicitation of Applications for the Rural Innovation Stronger Economy (RISE) program for fiscal year (FY) 2024 on January 2, 2024 that invited applications for funding subject to the availability of funding. However, the Agency did not receive any funding for FY24, so it will not be accepting applications this cycle.

DATES: Completed applications were to be submitted electronically no later than 11:59 p.m. Eastern Time April 1, 2024 through grants.gov. Effective now, RBCS is not accepting applications and any applications submitted to date will not be funded through the RISE program.

FOR FURTHER INFORMATION CONTACT: Rachel Reister, Program Management Division, RBCS, USDA, 1400 Independence Avenue SW, Mail Stop-3226, Washington, DC 20250-3226, (202) 720-1400 or email: rachel.reister@usda.gov.

SUPPLEMENTARY INFORMATION: The Agency invited applications for the RISE program for FY24 on January 2, 2024, 89 FR 43, in anticipation of funding appropriations. However, the program did not receive any funding for FY24, so it will not be accepting applications this cycle.

Kathryn E. Dirksen Londrigan,
Administrator, Rural Business-Cooperative Service.

[FR Doc. 2024-06999 Filed 4-2-24; 8:45 am]

BILLING CODE 3410-XY-P